DEPARTMENT OF TRANSPORTATION

Transportation Security Administration

Notice of Intent to Request Renewal From the Office of Management and Budget (OMB) of Two Current Public Collections of Information

AGENCY: Transportation Security Administration (TSA), DOT.

ACTION: Notice.

SUMMARY: TSA invites public comment on two currently approved information collection requirements abstracted below that will be submitted to OMB for renewal in compliance with the Paperwork Reduction Act.

DATES: Send your comments by February 18, 2003.

ADDRESSES: Comments may be mailed or delivered to A. Lawan Jackson, Office of Finance and Administration, Office of Records Management, TSA-14, Room 4616, Transportation Security Administration, 400 Seventh Street, SW., Washington, DC 20590-0001.

FOR FURTHER INFORMATION CONTACT: A. Lawan Jackson at the above address or by telephone (202) 385-1644; facsimile (202) 493-1731; e-mail lawan.jackson@tsa.dot.gov.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collections, TSA solicits comments in order to—

(1) evaluate whether the proposed information requirement is necessary for the proper performance of the functions of the agency, including whether the information will have practical utility;

(2) evaluate the accuracy of the agency's estimate of the burden;

(3) enhance the quality, utility, and clarity of the information to be collected; and

(4) minimize the burden of the collection of information on those who are to respond, including through the use of appropriate automated, electronic, mechanical, or other technological collection techniques or other forms of information technology.

1. 2110-0005; Indirect Air Carrier Security. Section 44903(b) of Title 49 U.S.C. directed the Federal Aviation Administration (FAA) to prescribe regulations (14 CFR part 109), to protect passengers and property on an aircraft operating in air transportation or intrastate air transportation against acts of criminal violence and aircraft piracy, and the public interest in the promotion of air transportation and intrastate air transportation. On November 19, 2001, the Aviation and Transportation Security Act, Public Law 107-71, transferred this responsibility to TSA. These standards were developed and implemented in 49 CFR part 1548. With the transfer of these responsibilities to TSA, the corresponding collection of information was also transferred from FAA to TSA. The previous OMB clearance number for FAA was OMB 2120-0505. The TSA number is now OMB 2110-0005. The current estimated annual reporting burden is 664 hours.

2. 2110-0010; Explosives Detection System Certification Testing. Section 108 of the Aviation Security Improvement Act of 1990, Public Law 101-604, provides in pertinent part that no deployment or purchase of any explosive detection equipment pursuant to sections 108.7(b)(8) and 108.20 of Title 14, Code of Federal Regulations, or any similar rule, shall be required after the date of the enactment of this section, unless the FAA Administrator certifies that, based on the results of tests conducted pursuant to protocols developed in consultation with expert scientists from outside the FAA such equipment alone or as part of an integrated system can detect under realistic air carrier operating conditions the amounts, configurations, and types of explosive material, which would be likely to be used to cause catastrophic damage to commercial aircraft. On November 19, 2001, the Aviation and Transportation Security Act, Public Law 107-71, transferred this responsibility to TSA. With the transfer of this responsibility to TSA, the corresponding collection of information was also transferred from FAA to TSA. The previous OMB clearance number for FAA was OMB 2120-0577. The TSA number is now OMB 2110-0010. The current estimated annual reporting burden is 775 hours.

Issued in Washington, DC, on December 16, 2002.
Susan T. Tracey,
Deputy Chief Administrative Officer.

[FR Doc. 02-32139 Filed 12-19-02; 8:45 am]

BILLING CODE 4910-62-P